SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before February 9, 2009.

ADDRESSES: Send all comments regarding whether this information collection is necessary for the proper performance of the function of the agency, whether the burden estimates are accurate, and if there are ways to minimize the estimated burden and enhance the quality of the collection, to Michele Gierwatoski, Lead Accountant, Office of Denver Finance, Small Business Administration, 721 19th Street, 3rd Floor, Denver, CO 80202.

FOR FURTHER INFORMATION CONTACT: Michele Gierwatoski, Lead Accountant, Office of Denver Finance, 303-844-0413, michele.gierwatoski@sba.gov; Curtis B. Rich, Management Analyst, 202-205-7030, curtis.rich@sba.gov.

SUPPLEMENTARY INFORMATION: The SBA Form 172 is used by Lenders to report loan payments data to SBA on monthly basis. The purpose of this reporting is to (1) show the remittance due SBA on a loan serviced by participating lending institutions; (2) update the loan receivable balances; and (3) generate the issuance of past due notices.

Title: “Transaction Report on Loans Serviced by Lenders”.

Description of Respondents: Small Business Administration Participating Lenders.

Form Number: 172.

Annual Responses: 11,134.

Annual Burden: 3,352.

Addresses: Send all comments regarding whether this information collection is necessary for the proper performance of the function of the agency, whether the burden estimates are accurate, and if there are ways to minimize the estimated burden and enhance the quality of the collection, to Barbara Brannan, Special Assistant, Office of Surety Bond Guarantee Program, Small Business Administration, 409 3rd Street, SW., 8th floor, Washington, DC 20416.

FOR FURTHER INFORMATION CONTACT: Barbara Brannan, Special Assistant, Office of Surety Bond Guarantee Program, 202-205-6545, barbara.brannan@sba.gov; Curtis B. Rich, Management Analyst, 202-205-7030, curtis.rich@sba.gov.

SUPPLEMENTARY INFORMATION: SBA's Surety Bond Guarantee (SBG) Program was created to encourage surety companies to provide bonding for small contractors. The purpose of this survey is to ascertain small business familiarity with the program and establish baseline level data on the relative size of the small business market in need of the program.

Title: “Small Business Administration (SBA) Surety Bond Guarantee Customer Survey”.

Description of Respondents: Surety Companies.

Form Number: 2309.

Annual Responses: 382.

Annual Burden: 13.

Addresses: Send all comments regarding whether this information collection is necessary for the proper performance of the function of the agency, whether the burden estimates are accurate, and if there are ways to minimize the estimated burden and enhance the quality of the collection, to Rachel Newman Karton, Program Analyst, Office of Entrepreneurial Development, Small Business Administration, 409 Street, SW., 6th floor, Washington, DC 20416.

For Further Information Contact: Rachel Newman Karton, Program Analyst, Office of Entrepreneurial Development, 202-619-186, rachel.newman-karton@sba.gov; Curtis B. Rich, Management Analyst, 202-205-7030, curtis.rich@sba.gov.

SUPPLEMENTARY INFORMATION: Each form is used to notify recipients of grant awards and cooperative agreement awards. Form 1222 is used also to document logistical and budgetary information gathered from the awardees application and proposed. Awardees/ Respondents are universities, colleges, state and local government, for-profit organizations. Form 1224 is used to certify the cost sharing by the recipient.

Title: “Notice of Award and Grant Cooperative Agreement Sharing Proposal”.

Description of Respondents: Participating Colleges and Grants Management Offices.

Form Numbers: 1222 and 1224.

Annual Responses: 2,592.

Annual Burden: 202,261.

Jacqueline White,
Chief, Administrative Information Branch.

[FR Doc. E8-29028 Filed 12-10-08; 8:45 am]

BILLING CODE 8025-01-M